FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or sis@fmc.gov).

Agreement No.: 011928-003.

Title: Maersk Line/HLAG Slot Charter Agreement.

Parties: A.P. Moller-Maersk A/S and Hapag-Lloyd AG (HLAG).

Filing Party: Wayne R. Rohde, Esq.; Sher & Blackwell LLP; 1850 M Street NW.; Suite 900; Washington, DC 20036.

Synopsis: The amendment would change the amount of space to be chartered, extend the minimum duration of the agreement and reflect that not all vessels on which HLAG receives space will be operated by Maersk.

Agreement No.: 012034.

Title: Hamburg Sud/Maersk Line Vessel Sharing Agreement.

Parties: Hamburg-Sud and A.P. Moeller-Maersk A/S.

Filing Party: Wayne R. Rohde, Esq.; Sher & Blackwell LLP; 1850 M Street, NW.; Suite 900; Washington, DC 20036.

Synopsis: The agreement would authorize the parties to share vessel space between the U.S. East Coast and Australia/New Zealand.

Agreement No.: 200389-003.

Title: Houston Maritime Freight Handlers Discussion Agreement.

Parties: Barbours Cut Intermodal Services Ltd.; Barbours Cut Truck Office, Inc.; Ceres Gulf, Inc.; Chaparral Stevedoring Co. of Texas, Inc.; CT Stevedoring, Inc.; GP Terminals LLC; Ports of America Texas, Inc.; Shippers Stevedoring Co.; Southern Stevedoring Co., Inc.; and SSA Gulf, Inc.

Filing Party: Walter A. Niemand, Chairman; Houston Maritime Freight Handlers Discussion Agreement; 1717 East Loop, Suite 200; Houston, TX 77029

Synopsis: The amendment would clarify language, update the current membership, and restate the entire agreement.

Agreement No.: 201179.

Title: Lease and Operating Agreement between PRPA and Growmark, Inc.

Parties: Growmark, Inc. and the Philadelphia Regional Port Authority (PRPA).

Filing Party: Paul D. Coleman, Esq.; Hoppel, Mayer & Coleman; 1050 Connecticut Avenue, NW.; 10th Floor; Washington, DC 20036.

Synopsis: The agreement provides for the lease and operation of terminal facilities at the Port of Philadelphia.

Dated: March 21, 2008.
By Order of the Federal Maritime Commission.
Karen V. Gregory,
Assistant Secretary.

[FR Doc. E8-6161 Filed 3-25-08; 8:45 am]

BILLING CODE 6730-01-P